DEPARTMENT OF TRANSPORTATION

Federal Aviation Administration

14 CFR Part 71

[Docket No. FAA-2004-19671; Airspace Docket No. 04-AWA-07]

RIN 2120-AA66

Modification of Control Areas 1143L and 1146L

AGENCY: Federal Aviation Administration (FAA), DOT.

ACTION: Final rule.

SUMMARY: This action revises the legal descriptions of Control Areas 1143L and 1146L to remove references to the Nantucket, MA, Nondirectional Beacon (NDB), which has been taken out of service and decommissioned by the FAA. The legal descriptions are being revised to use a geographical point based on latitude/longitude coordinates in place of the former NDB references. This action will enhance safety by removing references to a decommissioned navigational aid from controlled airspace descriptions.

Effective Dates: 0901 UTC, March 17, 2005.

FOR FURTHER INFORMATION CONTACT: Paul Gallant, Airspace and Rules, System Operations and Safety, Federal Aviation Administration, 800 Independence Avenue, SW., Washington, DC 20591; telephone: (202) 267-8783.

SUPPLEMENTARY INFORMATION:

Background

Control areas are Class E airspace areas that provide controlled airspace (beyond 12 nautical miles from the coast of the United States) where there is a requirement to provide IFR en route air traffic control (ATC) services and within which the United States is applying domestic ATC procedures. Control Areas 1143L and 1146L are located offshore to the east of Cape Cod, Massachusetts.

On June 17, 2004, the FAA's New England Regional Office requested that action be taken to modify the legal descriptions of Control Areas 1143L and 1146L to remove references to the Nantucket, MA, NDB. The NDB has been removed from service and decommissioned by the FAA, therefore, it can no longer be used in legal descriptions.

The Rule

This action amends Title 14 Code of Federal Regulations (14 CFR) part 71 (part 71) by revising the legal descriptions of Control Areas 1143L and 1146L to remove references to the Nantucket, MA, NDB which has been removed from service. This modification substitutes the latitude/longitude coordinates of the former geographic position of the Nantucket NDB (lat. 40°16′07″ N., long. 70°10′48″ W.) in place of all references to the NDB in the two Control Area descriptions. This modification, therefore, simply changes the means of identifying points in the legal descriptions without altering the actual boundaries or altitudes of control areas. Further, this change will enhance safety by removing from the descriptions a navigation aid that is no longer available for pilots' use in navigation.

Because this action is an administrative change that does not alter the existing boundaries or altitudes of the Control Areas, and is needed for safety reasons, I find that notice and public procedure under 5 U.S.C. 553(b) are impracticable and contrary to the public interest.

Control Areas are published in paragraph 6007, of FAA Order 7400.9M, dated August 30, 2004, and effective September 16, 2004, which is incorporated by reference in 14 CFR 71.1. The Control Areas listed in this document will be published subsequently in the Order.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of Amendment

In consideration of the foregoing, the Federal Aviation Administration amends 14 CFR part 71 as follows:

PART 71—DESIGNATION OF CLASS A, B, C, D, AND E, AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9M, Airspace Designations and Reporting Points, dated August 30, 2004, and effective September 16, 2004, is amended as follows:

Paragraph 6007 Offshore airspace areas.

* * * * *

Control 1143L [Revised]

That airspace extending upward from 5,500 feet MSL within tangent lines drawn from the circumference of a 4.3-mile radius circle centered on lat. 41°16′07″ N., long. 70°10′48″ W., to a 13-mile radius circle centered at the midway point on a direct line between lat. 41°16′07″ N., long. 70°10′48″ W., and the Yarmouth, NS, Canada, NDB to a 4.3-mile radius circle centered on the Yarmouth NDB excluding that airspace within the confines of Federal airways and east of long. 67°00′00″ W.

* * * * *

Control 1146L [Revised]

That airspace extending upward from 5,500 feet MSL within a 5-mile radius circle centered on lat. 41°16′07″ N., long. 70°10′48″ W., and that airspace bounded by a line drawn from the tangent of the 5-mile radius circle centered on lat. 41°16′07″ N., long. 70°10′48″ W., to lat. 42°05′20″ N., long. 67°59′58″ W.; to lat. 42°19′00″ N., long. 67°59′58″ W.; to lat. 43°00′00″ N., long. 67°00′00″ W.; to lat. 41°52′00″ N., long. 67°00′00″ W.; to lat. 41°46′00″ N., long. 67°59′58″ W.; to the tangent of the 5-mile radius circle centered on lat. 41°16′07″ N., long. 70°10′48″ W.

* * * * *

Issued in Washington, DC, on December 1, 2004.
Reginald C. Matthews,
Manager, Airspace and Rules.

[FR Doc. 04-26845 Filed 12-6-04; 8:45 am]

BILLING CODE 4910-13-P